DEPARTMENT OF TRANSPORTATION

Pipeline and Hazardous Materials Safety Administration

[Docket ID PHMSA-2012-0244]

Pipeline Safety: Notice of Public Meeting on Pipeline Data

AGENCY: Pipeline and Hazardous Materials Safety Administration (PHMSA), DOT.

ACTION: Notice of public meeting.

SUMMARY: PHMSA and the National Association of Pipeline Safety Representatives (NAPSR) are sponsoring this public meeting to discuss how pipeline data is currently used by stakeholders and identify potential improvements in pipeline safety performance measures. PHMSA pipeline safety regulations require integrity management program performance measures for gas distribution, gas transmission, and hazardous liquids pipelines. The National Transportation Safety Board (NTSB) and the U.S. Department of Transportation's (DOT) Office of the Inspector General have recommended that PHMSA improve pipeline safety performance measures and generate meaningful metrics. This meeting provides an opportunity for pipeline safety stakeholders to suggest improvements to existing performance measures and new measures representing meaningful pipeline safety metrics. The meeting will include breakout sessions on voluntary reporting, data discrepancies, data collected but not needed, and performance measures.

DATES: The public meeting on pipeline data will be held on Monday, October 29, 2012, from 1 p.m. to 5:30 p.m. and Tuesday, October 30, 2012, from 8 a.m. to 5 p.m. Name badge pickup and onsite registration will be available starting at 12:30 p.m. on October 29 and 7:30 a.m. on October 30.

Registration: Please register at https://primis.phmsa.dot.gov/meetings/MtgHome.mtg?mtg=81. Please note that the meeting will be webcast, including the voluntary reporting breakout on October 30. The webcast link will be posted on the registration Web page prior to the event.

ADDRESSES: The public meeting will be held at the Hyatt Regency Washington on Capitol Hill, 400 New Jersey Avenue NW., Washington, DC 20001, phone: 888-421-1442. Please contact the Hyatt Regency before October 16, 2012, to reserve a room in the “US DOT” room block by phone or at https://resweb.passkey.com/Resweb.do?mode=welcome_gi_new&groupID=16450837. Please contact the Hyatt Regency for information on facilities or services for individuals with disabilities or to request special assistance during these public meetings. The meeting room will be posted at the hotel on the days of the workshop.

FOR FURTHER INFORMATION CONTACT: Blaine Keener at 202-366-0970 or by email at blaine.keener@dot.gov.

SUPPLEMENTARY INFORMATION:

PHMSA will be holding this public meeting to provide an open forum for exchanging information about how pipeline data is used by stakeholders and how performance measures could be improved. The NTSB and the DOT Office of the Inspector General have recommended that PHMSA improve pipeline safety performance measures and generate meaningful metrics. Various stakeholders, including Federal and state regulatory agencies, industry, advocacy groups and the media often use data collected by PHMSA and made publicly available to describe the reliability of the pipeline infrastructure, portray safety trends, or identify emerging safety concerns. Further, this data is often used as part of evaluating the safety performance of individual companies, the industry as a whole, and the effectiveness of the regulatory process.

PHMSA regulations require integrity management program performance measures for gas distribution pipelines (49 CFR 192.1007(e)), gas transmission pipelines (49 CFR 192.945) and hazardous liquids pipelines (49 CFR 195.452(k)). The information exchanged at this public meeting will help inform PHMSA as rulemakings or information collections are considered to improve integrity management performance measures and establish new performance measures for aspects of pipeline safety other than integrity management programs.

The keynote speaker will be NTSB member Mr. Mark Rosekind. Presenters will include PHMSA, NAPSR, the Pipeline Safety Trust, and representatives from the pipeline industry. As speakers are identified by name, the agenda on the registration Web page will be updated. PHMSA invites all stakeholders to actively participate in the meeting and specifically engage in thoughtful input and discussion during the topic specific breakout session.

The overall objectives of the meeting are to:

1. Determine how stakeholders, including PHMSA, industry, and the public use the data.

2. Determine how industry and PHMSA currently measure performance, how performance measures could be improved, and what additional data is needed to do so.

3. Determine the best method(s) for collecting, analyzing, and ensuring transparency of additional data needed to improve performance measures.

4. Summarize the data PHMSA currently collects, who we collect it from, and why we collect it.

5. Discuss data quality improvement including past efforts and future opportunities as well as universally understood definitions.

PHMSA is preparing a document summarizing the pipeline data currently collected by PHMSA. This document will be available on the registration Web page by October 22, 2012. All presentations made during the meeting will be available on the registration Web page a few days after the meeting ends.

Jeffrey D. Wiese,
Associate Administrator for Pipeline Safety.

[FR Doc. 2012-24976 Filed 10-10-12; 8:45 am]

BILLING CODE 4910-60-P